OFFICE OF PERSONNEL MANAGEMENT

Excepted Service

AGENCY: Office of Personnel Management.

ACTION: Notice.

SUMMARY: This gives notice of positions placed or revoked under Schedule C in the excepted service, as required by Civil Service Rule VI, Exceptions from the Competitive Service.

FOR FURTHER INFORMATION CONTACT: Pam Shivery, Director, Washington Service Center, Employment Service (202) 606-1015.

SUPPLEMENTARY INFORMATION: Individual authorities established under Schedule C between December 1, and December 31, 2001, appear in the listing below. Future notices will be published on the fourth Tuesday of each month, or as soon as possible thereafter. A consolidated listing of all authorities as of June 30 is published each year.

Schedule C

The following Schedule C authorities were established during December 2001:

Broadcasting Board of Governors

Staff Director to the Director, Office of the Advisory Board for Cuba Broadcasting. Effective December 13, 2001.

Commission on Civil Rights

Special Assistant to a Commissioner. Effective December 3, 2001.

Council on Environmental Quality

Associate Director for Communications to the Chairman, Council on Environmental Quality. Effective December 17, 2001.

Department of Agriculture

Confidential Assistant to the Administrator, Rural Utilities Service. Effective December 17, 2001.

Staff Assistant to the Confidential Assistant, Office of the Secretary. Effective December 26, 2001.

Department of Commerce

Confidential Assistant to the Assistant Secretary for Economic Development. Effective December 3, 2001.

Confidential Assistant to the Director, Office of External Affairs. Effective December 3, 2001.

News Analyst to the Director, Office of Public Affairs. Effective December 3, 2001.

Senior Advisor to the Assistant Secretary for Economic Development. Effective December 7, 2001.

Associate Under Secretary for Communications to the Under Secretary for Economic Affairs. Effective December 7, 2001.

Special Assistant to the Assistant Secretary for Market Access and Compliance. Effective December 7, 2001.

Special Assistant to the Under Secretary for Oceans and Atmosphere. Effective December 17, 2001.

Special Assistant to the Assistant Secretary for Legislative and Intergovernmental Affairs. Effective December 17, 2001.

Congressional Affairs Specialist to the Director of Legislative Affairs. Effective December 17, 2001.

Confidential Assistant to the Chief of Staff. Effective December 17, 2001.

Special Assistant to the Under Secretary and Director, Patent and Trademark Office. Effective December 17, 2001.

Special Assistant to the Director of External Affairs. Effective December 17, 2001.

Confidential Assistant to the Executive Assistant to the Secretary. Effective December 17, 2001.

Special Assistant to the Assistant to the Secretary and Director, Office of Policy and Strategic Planning. Effective December 17, 2001.

Deputy Director to the Director, Executive Secretariat. Effective December 20, 2001.

Public Affairs Specialist to the National Director, Minority Business Development Agency. Effective December 20, 2001.

Confidential Assistant to the Director, Executive Secretariat. Effective December 21, 2001.

Special Assistant to the Director, Office of White House Liaison. Effective December 21, 2001.

Department of Defense

Special Assistant to the Under Secretary of Defense for Policy. Effective December 3, 2001.

Protocol Officer to the Special Assistant to the Secretary of Defense (White House Liaison). Effective December 4, 2001.

Special Assistant to the Assistant Secretary of Defense for Special Operations and Low-Intensity Conflict. Effective December 17, 2001.

Department of Education

Secretary's Regional Representative, Region II, to the Deputy Assistant Secretary for Regional Services. Effective December 3, 2001.

Special Assistant to the Assistant Secretary, Office of Elementary and Secondary Education. Effective December 3, 2001.

Confidential Assistant to the Assistant Secretary for Vocational and Adult Education. Effective December 3, 2001.

Special Assistant to the General Counsel. Effective December 4, 2001.

Special Assistant to the Commissioner of Rehabilitative Service Administration. Effective December 4, 2001.

Secretary's Regional Representative, Region IX, to the Deputy Secretary for Regional Services. Effective December 11, 2001.

Special Assistant to the Secretary of Education. Effective December 19, 2001.

Confidential Assistant to the Chief of Staff to the Deputy Secretary. Effective December 19, 2001.

Special Assistant to the Director, Office of Public Affairs. Effective December 19, 2001.

Special Assistant to the Deputy Secretary. Effective December 21, 2001.

Confidential Assistant to the Assistant Secretary for Management. Effective December 26, 2001.

Department of Energy

Senior Advisor, Communications to the Principal Deputy Assistant Secretary for Energy, Efficiency and Renewable Energy. Effective December 7, 2001.

Chief of Staff to the Assistant Secretary for Energy Efficiency and Renewable Energy. Effective December 11, 2001.

Special Assistant for Communications to the Director, Office of Civilian Radioactive Waste Management. Effective December 11, 2001.

Policy Advisor to the Secretary of Energy. Effective December 11, 2001.

Special Assistant to the Director, Office of Management and Administration. Effective December 11, 2001.

Senior Policy Advisor to the Assistant Secretary for Environmental Management. Effective December 11, 2001.

Special Assistant to the Assistant Secretary for Policy and International Affairs. Effective December 17, 2001.

Deputy White House Liaison to the White House Liaison and Senior Policy Advisor. Effective December 17, 2001.

Department of Health and Human Services

Secretary's Regional Representative to the Director of Intergovernmental Affairs. Effective December 13, 2001.

Secretary's Regional Representative to the Director of Intergovernmental Affairs. Effective December 13, 2001.

Speechwriter to the Assistant Secretary for Public Affairs. Effective December 13, 2001.

Director of Speechwriting to the Deputy Assistant Secretary for Public Affairs (Media). Effective December 17, 2001.

Counselor to the Deputy Secretary. Effective December 19, 2001.

Executive Director, President's Committee on Mental Retardation to the Assistant Secretary for Children and Families, Administration for Children and Families. Effective December 19, 2001.

Deputy Director for Policy to the Director of Intergovernmental Affairs. Effective December 20, 2001.

Special Assistant to the Assistant Deputy Secretary for Public Affairs (Policy and Strategy). Effective December 20, 2001.

Special Assistant to the Deputy Assistant Secretary for Policy and External Affairs, Administration for Children and Families. Effective December 20, 2001.

Associate Commissioner Children's Bureau to the Commissioner, Administration for Children Youth and Families. Effective December 20, 2001.

Confidential Assistant to the Director of Communications. Effective December 20, 2001.

Special Assistant to the Assistant Secretary for Children and Families, Administration for Children and Youth Families. Effective December 20, 2001.

Director, Office of International and Refugees Health to the Assistant Secretary for Health. Effective December 26, 2001.

Department of Housing and Urban Development

Special Assistant to the Director Special Actions. Effective December 20, 2001.

Staff Assistant to the Deputy Assistant Secretary for Congressional and Intergovernmental Relations. Effective December 21, 2001.

Special Assistant to the Chief Financial Officer. Effective December 26, 2001.

Department of the Interior

Special Assistant to the Deputy Director for External Affairs (National Park Service). Effective December 13, 2001.

Deputy White House Liaison to the White House Liaison. Effective December 14, 2001.

Department of Justice

Press Assistant to the Director, Office of Public Affairs. Effective December 5, 2001.

Department of Labor

Special Assistant to the Secretary of Labor. Effective December 7, 2001.

Chief of Staff to the Assistant Secretary, Employment Standards Administration. Effective December 11, 2001.

Special Assistant to the Assistant Secretary for Occupational Safety and Health Administration. Effective December 13, 2001.

Senior Intergovernmental Officer to the Assistant Secretary for Congressional and Intergovernmental Affairs. Effective December 13, 2001.

Secretary's Representative, Seattle, WA to the Assistant Secretary for Congressional and Intergovernmental Affairs. Effective December 13, 2001.

Special Assistant to the Assistant Secretary for Administration and Management. Effective December 13, 2001.

Special Assistant to the Director, 21st Century Workforce. Effective December 17, 2001.

Chief of Staff to the Deputy Assistant Secretary. Effective December 20, 2001.

Senior Legislative Officer to the Assistant Secretary for Congressional and Intergovernmental Affairs. Effective December 20, 2001.

Department of State

Legislative Management Officer to the Assistant Secretary for Legislative Affairs. Effective December 11, 2001.

Department of Transportation

Special Assistant for Scheduling and Advance to the Director for Scheduling and Advance. Effective December 5, 2001.

Associate Director to the Assistant Secretary for Governmental Affairs. Effective December 6, 2001.

Scheduling/Advance Assistant to the Director for Scheduling and Advance. Effective December 27, 2001.

Staff Assistant to the Administrator, Federal Transit Authority. Effective December 28, 2001.

Department of the Treasury

Special Assistant to the Assistant Secretary for Financial Institutions. Effective December 21, 2001.

Senior Advisor to the Deputy Assistant Secretary for Government Financial Policy. Effective December 21, 2001.

Deputy Executive Secretary to the Executive Secretary. Effective December 26, 2001.

Environmental Protection Agency

Assistant to the Director of Operations, Office of Communications, Education and Media Relations. Effective December 3, 2001.

Director of Operations to the Administrator. Effective December 3, 2001.

Special Assistant to the Associate Administrator for Communications, Education, and Media Relations. Effective December 13, 2001.

Program Advisor (Publications) to the Associate Administrator for Communications, Education and Media Relations. Effective December 13, 2001.

Program Advisor to the Assistant Administrator for Policy, Economics and Innovation. Effective December 13, 2001.

Equal Employment Opportunity Commission

Confidential Assistant to the Chair. Effective December 17, 2001.

Special Assistant (Speech Writer) to the Director, Office of Communications and Legislative Affairs. Effective December 17, 2001.

Confidential Assistant to the Director, Office of Communications and Legislative Affairs. Effective December 20, 2001.

Federal Trade Commission

Consumer Liaison Specialist to the Director, Office of Consumer and Business Education. Effective December 7, 2001.

National Aeronautics and Space Administration

Staff Support Specialist to the Administrator, National Aeronautics and Space Administration. Effective December 21, 2001.

Confidential Assistant to the Administrator, National Aeronautics and Space Administration. Effective December 21, 2001.

Office of Management and Budget

Confidential Assistant to the Associate Director, National Security and International Affairs. Effective December 3, 2001.

Special Assistant to the Associate Director for Information Technology and E-Government. Effective December 28, 2001.

Office of National Drug Control Policy

Public Affairs Specialist to the Director, Office of National Drug Control Policy. Effective December 3, 2001.

Office of Personnel Management

White House Liaison to the Chief of Staff. Effective December 12, 2001.

Special Iniatives Coordinator to the Director, Office of Communications. Effective December 17, 2001.

Deputy General Counsel to the General Counsel. Effective December 17, 2001.

Special Assistant to the Director, Office of Communications. Effective December 17, 2001.

Senior Advisor to the Chief of Staff. Effective December 17, 2001.

President's Commission on White House Fellowships

Executive Director to the President of the United States. Effective December 3, 2001.

Outreach Coordinator to the Executive Director. Effective December 13, 2001.

Small Business Administration

Special Assistant to the Associate Deputy Administrator of Entrepreneurial Development. Effective December 3, 2001.

Regional Administrator, Region I, Boston, MA to the Associate Administrator for Field Operations. Effective December 28, 2001.

Regional Administrator, Region 10, Seattle Washington to the Associate Administrator for Field Operations. Effective December 28, 2001.

Authority: 5 U.S.C. 3301 and 3302; E.O. 10577, 3 CFR 1954-1958 Comp., p. 218

Office of Personnel Management.
Kay Coles James,
Director.

[FR Doc. 02-2675 Filed 2-4-02; 8:45 am]

BILLING CODE 6325-01-P